DEPARTMENT OF THE INTERIOR

National Park Service

Delaware Water Gap National Recreation Area Citizen Advisory Commission Meeting

AGENCY: National Park Service; Interior.

ACTION: Notice of public meeting.

SUMMARY: This notice announces a public meeting of the Delaware Water Gap National Recreation Area Citizen Advisory Commission. Notice of this meeting is required under the Federal Advisory Committee Act, as amended (5 U.S.C. App. 2). “An unusual combination of events in the preparation, approval, and transmission of this notice has resulted in the publication of this notice less than 15 days before the date of the meeting. The National Park Service has made extraordinary efforts to provide notification to all Commission members and to the public.”

DATES: Saturday, October 13, 2007, 9 a.m.

ADDRESSES: New Jersey District Office, Walpack, NJ 07881.

The agenda will include reports from Citizen Advisory Commission members including committees such as Cultural and Historical Resources, Natural Resources, and Recreation. Superintendent John J. Donahue will give a report on various park issues, including cultural resources, natural resources, construction projects, and partnership ventures. The agenda is set up to invite the public to bring issues of interest before the Commission.

FOR FURTHER INFORMATION CONTACT: Superintendent John J. Donahue, 570-426-2418.

SUPPLEMENTARY INFORMATION: The Delaware Water Gap National Recreation Area Citizen Advisory Commission was established by Public Law 100-573 to advise the Secretary of the Interior and the United States Congress on matters pertaining to the management and operation of the Delaware Water Gap National Recreation Area, as well as on other matters affecting the recreation area and its surrounding communities.

Dated: August 27, 2007.
John J. Donahue,
Superintendent.

[FR Doc. 07-4970 Filed 10-5-07; 8:45 am]

BILLING CODE 4312-J6-M